DEPARTMENT OF AGRICULTURE

National Institute of Food and Agriculture

Notice of Intent To Extend Currently Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend a previously approved information collection, Form NIFA-666, entitled “Organizational Information.”

DATES: Written comments on this notice must be received by January 24, 2022 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Robert Martin, 202-445-5388, Robert.martin3@usda.gov.

SUPPLEMENTARY INFORMATION:

Title of Collection: Organizational Information.

OMB Control Number: 0524-0026.

Expiration Date of Current Approval: 01/31/2022.

Type of Request: Notice of intent to extend a currently approved information collection. The burden for this collection remains unchanged.

NIFA is requesting a three-year extension for the current collection entitled “Organizational Information.”

Abstract: NIFA has primary responsibility for providing linkages between the Federal and State components of a broad-based, national agricultural research, extension, and education system. Focused on national issues, its purpose is to represent the Secretary of Agriculture and carry out the intent of Congress by administering capacity and grant funds appropriated for agricultural research, extension, and education. Before awards can be made, certain information is required from applicants to effectively assess the potential recipient's capacity to manage Federal funds. Form NIFA-666 “Organizational Information,” enables NIFA to determine that the applicants recommended for awards will be responsible recipients of Federal funds.

The information requested from the applicant pertains to the organizational and financial management of the potential grantee. This form and the attached applicant documents provide NIFA with information such as the legal name of the organization, certification that the organization has the legal authority to accept Federal funding, identification and signatures of the key officials, the organization's policies for employee compensation and benefits, equipment insurance, policies on subcontracting with other organizations, etc., as well as the financial condition of the organization and certification that the organization is not delinquent on Federal taxes. NIFA considers all of this information prior to award, to determine the grantee is both managerially and fiscally responsible. This information is submitted to NIFA on a one-time basis and updated accordingly. If sufficient changes occur within the organization, the grantee submits revised information.

Estimated Number of Respondents: 150.

Estimated Burden per Response: 6.3 hours.

Estimated Total Annual Burden on Respondents: 945 hours.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this day of November 18, 2021.
Carrie L. Castille,
Director, National Institute of Food and Agriculture, U.S. Department of Agriculture.

[FR Doc. 2021-25668 Filed 11-23-21; 8:45 am]

BILLING CODE P